DEPARTMENT OF THE INTERIOR

Bureau of Land Management

DEPARTMENT OF AGRICULTURE

Forest Service

Notice of Availability of Draft Environmental Impact Statement for the Buckman Water Diversion Project, Santa Fe County, New Mexico

AGENCIES: Bureau of Land Management, Interior. Forest Service, Agriculture.

ACTION: Notice of availability.

SUMMARY: In accordance with the National Environmental Policy Act of 1969 (NEPA), the Bureau of Land Management, Taos Field Office, and Forest Service, Santa Fe National Forest, announce the availability of the Draft Environmental Impact Statement (DEIS) for the Buckman Water Diversion Project.

DATES: The Buckman Water Diversion Project DEIS will be available for review for 60 days from the date the Environmental Protection Agency (EPA) publishes its Notice of Availability (NOA) in the Federal Register. The Bureau of Land Management and Forest Service can best utilize your comments and resource information submissions within the 60 day review period provided above. Any meetings or public involvement activities associated with distribution of the DEIS will be announced at least 15 days in advance through the local media, at Web site http://www.nm.blm.gov, and/or mailings.

ADDRESSES: Copies of the DEIS have been sent to affected Federal, State, and local government agencies and to interested parties, and will be available via the Internet at http://www.nm.blm.gov.

Copies of the DEIS will also be available at the following locations:

• Bureau of Land Management, New Mexico State Office, 1474 Rodeo Road, Santa Fe, NM 87505.

• Forest Service, Santa Fe National Forest, 1474 Rodeo Road, Santa Fe, NM 87505.

• Tetra Tech, Santa Fe Office, 502 West Cordova Road, Santa Fe,NM 87505.

• City of Santa Fe, Sangre de Cristo Water Division, 801 West San Mateo, Santa Fe, NM 87504.

• Santa Fe County, Utilities Department, 205 Montezuma Ave., Santa Fe, NM 87501.

• USDI Bureau of Reclamation, 555 Broadway Ave., Albuquerque, NM 87102.

Comments must be sent to Mr. Sandy Hurlocker (Buckman Diversion Comments), Espanola Ranger District, PO Box 3307, Espanola, New Mexico 87533. E-mail comments may be directed to the following e-mail address: comments-southwestern-santafe-espanola@fs.fed.us

FOR FURTHER INFORMATION CONTRACT: The Bureau of Land Management contact is Ms. Sher Churchill, Planning and Environmental Coordinator, Taos, Field Office, 226 Cruz Alta Rd., Taos, New Mexico 87571, telephone (505) 751-4725. The Forest Service contact is Mr. Sandy Hurlocker, NEPA Coordinator, Espanola Ranger District, P.O. Box 3307, Espanola, New Mexico 87533, telephone (505) 753-7331.

SUPPLEMENTARY INFORMATION: The project area is located northwest of Santa Fe, New Mexico. The DEIS describes and analyzes the impacts of alternatives for approximately 9 miles of upgrades to an existing access road and for construction and operation of a water diversion intake on the Rio Grande; sediment settling ponds; pumps and water pipelines to move the withdrawn water approximately 15 miles to the vicinity of its use; two water treatment plants; and and two power lines a 115 Kv and a 12.47 Kv plus one substation.

If authorized, the project will be predominantly located on public lands administered by the Bureau of Land Management and the Forest Service; and a relatively small portion of the project facilities will be located on private lands and Bureau of Land Management lands leased to the City of Santa Fe.

The Forest Service and Bureau of Land Management are co-lead agencies for this project; the Department of Interior Bureau of Reclamation (contributing funds), City of Santa Fe and Santa Fe County are cooperating agencies. The City of Santa Fe, Santa Fe County and Las Companas Limited Partnership are the project applicants.

The project applicants (City of Santa Fe, Santa Fe County, and Las Companas Limited Partnership) have proposed the Buckman Water Diversion Project to meet the immediate need for a sustainable means of accessing water supplies that make more direct use of the Applicants' water rights by diverting San Juan-Chama Project water and native Rio Grande water while reducing impacts to the aquifer. The Applicants propose to construct and operate a surface water diversion facility at the Rio Grande near the western terminus of Buckman Road located within the Santa Fe National Forest, near the existing Buckman Well Field. The water will be pumped to the Santa Fe vicinity where it will serve municipal and community water supply customers.

The Buckman Water Diversion is proposed to be constructed with the capacity necessary to meet the near-term need for water, based on physical, technical, and environmental limitations. The proposed project has an independent utility from the long-term water management strategy being undertaken by the City and the County.

The scoping process has included public meetings, field reviews, and interactions with various State and Federal agencies. Issues identified during scoping led to the development of alternatives to a number of components in the proposed action. Also, on-going discussions and evaluations conducted by the lead agencies and Applicants have resulted in the identification of additional action items (such as power infrastructure and road upgrades) that have been incorporated into the proposed action and other action alternatives. The DEIS describes and analyzes the direct, indirect and cumulative effects of a range of action alternatives and the No Action alternative in detail. The alternatives, including the Agencies' Preferred Alternative, conform to existing laws and regulations, and provide for resource protection.

Sam DesGeorges,
BLM Taos Field Manager.
Gilbert Zepeda,
Santa Fe Forest Supervisor.

[FR Doc. 04-26871 Filed 12-16-04; 8:45 am]

BILLING CODE 4310-FB-P